DEPARTMENT OF TRANSPORTATION

Federal Motor Carrier Safety Administration

49 CFR Part 384

[Docket No. FMCSA-2018-0361]

RIN 2126-AC20

Lifetime Disqualification for Human Trafficking; Correction

AGENCY: Federal Motor Carrier Safety Administration (FMCSA), DOT.

ACTION: Final rule; correction.

SUMMARY: The Federal Motor Carrier Safety Administration (FMCSA) is correcting a final rule that appeared in the Federal Register on July 23, 2019. The document included an incorrect compliance date for States to come into substantial compliance with the provisions in the final rule and an incorrect paragraph designation for this provision.

DATES: This final rule correction is effective September 23, 2019.

FOR FURTHER INFORMATION CONTACT: Ms. Kathryn Sinniger, Office of the Chief Counsel, Regulatory and Legislative Affairs, Federal Motor Carrier Safety Administration, 1200 New Jersey Avenue SE, Washington, DC 20590-0001, (202) 366-0908. If you have questions on viewing or submitting material to the docket, contact Docket Services, (202) 366-9826.

SUPPLEMENTARY INFORMATION: In FR Doc. 2019-15611 appearing on page 35335 in the Federal Register of Tuesday, July 23, 2019, the following corrections are made:

1. On page 35339, in the first column, amendatory instruction 6 and its corresponding regulatory text are corrected to read as follows:

6. In § 384.301, add paragraph (m) to read as follows:

§ 384.301 Substantial compliance—general requirements.

* * * * *

(m) A State must come into substantial compliance with the requirements of part 383 of this chapter in effect as of September 23, 2019, or as soon as practicable, but not later than September 23, 2022.

Issued under authority delegated in 49 CFR 1.87.
Dated: July 24, 2019.
Larry W. Minor,
Associate Administrator for Policy.

[FR Doc. 2019-16160 Filed 7-29-19; 8:45 am]

BILLING CODE 4910-EX-P